DEPARTMENT OF DEFENSE

Department of the Army

Proposed Collection; Comment Request

AGENCY: Deputy Chief of Staff for Personnel (DAPE-ZXI-RM), DoD.

ACTION: Notice

In compliance with section 3506(c)(2)(A) of the Paperwork Reduction Act of 1995, the Department of the Army announces a proposed public information collection and seeks public comment on the provisions thereof. Comments are invited on: (a) Whether the proposed collection of information is necessary for the proposed performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by October 1, 2001.

ADDRESSES: Written comments and recommendations on the proposed information collection should be sent to Department of the Army, Military Traffic Management Command, 200 Stovall Street, Alexandria, Virginia 22332-5000, ATTN: MTPP-S (Ben Jozwiak). Consideration will be given to all comments received within 60 days of the date of publication of this notice.

FOR FURTHER INFORMATION CONTACT: To request more information on this proposed information collection or to obtain a copy of the proposal and associated collection instruments, please write to the above address, or call Department of the Army Reports clearance officer at (703) 614-0454.

Title, Associated Form, and OMB Number: Tender of Service-Mobile Home/Boats, OMB Control Number 0704-0056.

Needs and Uses: Since mobile homes/boats move at Government expense, data is needed in order to select the best service at the lowest overall cost to the Government. The information provided by the carrier serves as his bid for contract to transport mobile homes/boats. This information is not collected on a regular basis but is submitted intermittently throughout the year. The Government would not know which carriers to use for shipping mobile homes/boats if they could not collect this information.

Affected Public: Business or other for-profit.

Annual Burden Hours: 210.

Number of Respondents: 23.

Responses per Respondent: 9.

Average Burden per Response: 1 hour 15 minutes.

Frequency: On occasion.

SUPPLEMENTARY INFORMATION: Under provisions of DOD 4500.9R, Tenders of Service and Signature Sheets are prepared and filed with MTMC by carriers. The carrier submits a Tender of Service to HQMTMC (MTPP-HQ) to obtain approval from DOD to participate in award of shipments to move mobile homes/boats. The Tender of Service is the contractual agreement between DOD and the carrier, under which the carrier agrees to provide service in accordance with the terms and conditions cited in the Tender of Service.

Luz D. Ortiz,
Army Federal Register Liaison Officer.

[FR Doc. 01-18995 Filed 7-30-01; 8:45 am]

BILLING CODE 3710-08-M